NATIONAL SCIENCE FOUNDATION

Advisory Committee for Polar Programs; Notice of Meeting

In accordance with the Federal Advisory Committee Act (Pub. L. 92-463, as amended), the National Science Foundation (NSF) announces the following meeting:

NAME AND COMMITTEE CODE: Advisory Committee for Polar Programs (1130).

DATE AND TIME: November 21, 2022; 1 p.m. to 2 p.m. EST.

PLACE: National Science Foundation, 2415, Eisenhower Avenue, Alexandria, VA 22314 | Virtual via Zoom.

A virtual link will be posted on the AC OPP website at: https://nsf.gov/geo/opp/advisory.jsp.

TYPE OF MEETING: Open.

CONTACT PERSON: Sara Eckert, Office of Polar Programs, National Science Foundation, 2415 Eisenhower Ave., Alexandria, VA 22314; Contact: (703) 292-7899, seckert@nsf.gov.

PURPOSE OF MEETING: OPP advisory committee review of Antarctic Research Vessel (ARV) Science Advisory Subcommittee (SASC) report following the ARV's Interim Design Review #3.

AGENDA: Review and evaluate the SASC report, and vote on whether the report should be forwarded to the NSF Office of Polar Programs.

Dated: October 20, 2022.
Crystal Robinson,
Committee Management Officer.

[FR Doc. 2022-23235 Filed 10-25-22; 8:45 am]

BILLING CODE 7555-01-P